DEPARTMENT OF EDUCATION

Applications for New Awards; Ready-To-Learn Television

AGENCY: Office of Innovation and Improvement, Department of Education.

ACTION: Notice.

Overview Information:

Ready-to-Learn Television.

Notice inviting applications for new awards for fiscal year (FY) 2015.

Catalog of Federal Domestic Assistance (CFDA) Number: 84.295A.

DATES: Applications Available: March 25, 2015.

Deadline for Notice of Intent to Apply: April 9, 2015.

Date of Pre-Application Webinar: An informational Webinar will be announced on the Ready-to-Learn Television Web site at http://www2.ed.gov/programs/rtltv/index.html.

Deadline for Transmittal of Applications: May 26, 2015.

Deadline for Intergovernmental Review: July 23, 2015.

Full Text of Announcement

I. Funding Opportunity Description

Purpose of Program: The Ready-to-Learn Television Program (Ready-to-Learn) is designed to: (1) Facilitate school readiness and academic achievement by supporting the development and national distribution of educational television and interactive media programming for preschool and elementary school children and their parents; (2) develop and disseminate educational outreach materials and programs that are designed to deepen and extend the effectiveness of the educational television and interactive media and (3) build social and virtual communities of parents, educators, and children devoted to using the media materials.

Background:

Ready-to-Learn aims to take advantage of common mass media consumer technologies in order to reach children in low-income homes who may be lacking in educationally-rich learning opportunities and make it easier for parents, caregivers, and early learning providers to find trustworthy materials that they can use with the children in their care.

Ready-to-Learn accomplishes this by using Federal dollars to stimulate the creation of educational media content that meets the highest standards of educational quality, while aiming to be just as entertaining as the best commercially produced media programs. Ready-to-Learn is not meant to be a mere subsidy to enable media producers to create educational content that would not otherwise be commercially feasible for them to produce. Rather, Ready-to-Learn seeks to bring educators and media producers together in cooperative working relationships that would not otherwise be possible, while also using the Federal investment to leverage additional contributions in funding, talent, and resources.

To succeed, media producers generally must depart from their typical ways of working and embrace the contributions of educators and other education experts. Experts in subject matter and pedagogy, instructional designers, formative researchers, and other educators will work side by side and on equal footing with creative and media production experts in areas such as storytelling and interactive gameplay in order to merge their contributions into a unified and integrated effort.

As in the 2010 competition, in which Ready-to-Learn supported the development of educational “transmedia,” we are again looking to create new, interrelated combinations of television and interactive media in which characters, narrative story lines, and problem-solving are used to connect the various media products. In order to make this work, producers may need to plan how their different products will work together to execute a cohesive strategy, and then build a production model accordingly. Furthermore, producers may need to think carefully about how the eventual distribution of the products will be sequenced and organized to ensure that users will experience them in a manner that reflects this cohesiveness.

Striking the right balance between innovation and access is key. Technologies are constantly changing, and with them come new opportunities for improving young children's learning. Ready-to-Learn seeks to take advantage of the best educational uses of each medium and explore how best to combine both emerging and older media platforms to reach young children and their caregivers. With emerging technologies, it is important, however, to keep in mind what is available to low-income users in their homes or communities and what is accessible to a wide range of users, particularly those with disabilities.

Although the television programming created under Ready-to-Learn has generally been made accessible to users who have hearing or vision loss through captioning and video description, some of the transmedia created to accompany these programs has lacked meaningful accessibility features for users with disabilities. Products produced by projects funded through this competition must be accessible both for purposes of complying with Section 504 of the Rehabilitation Act and to ensure that the needs of all users, including those with disabilities, are addressed. In meeting the requirement to reach the “widest possible audience” set out in section 2431(a)(1)(D) of the Elementary and Secondary Education Act of 1965 (ESEA), applicants are expected to include the accommodations needed to provide accessibility to individuals with disabilities.

Furthermore, distribution has been an issue. In the past, the Department has generally assumed that if Ready-to-Learn grantees created high-quality products, national distribution deals would follow—usually through the existing infrastructure of the public television system. But the range of media available to producers has expanded beyond broadcast or cable television and Web sites to include national video streaming companies, applications for tablets and smartphones, game platforms, social media, and other technologies. Contemporary users also desire the ability to move freely between these platforms.

Therefore, in this competition we are encouraging applicants to consider and plan for distribution much earlier in the life of their proposed projects, and to directly partner with those broadcasters, streamers, game companies, publishers, or others that will be integral to ensure that the media is accessible to all users and will reflect both the creative and educational vision that went into its design.

Historically, Ready-to-Learn has also required grantees to develop and implement outreach programs in culturally diverse local communities. This year, we continue this focus by encouraging applicants to partner with both local and national organizations that promote wider use of the educational media materials in homes, daycare facilities, museums and libraries, and a variety of other informal learning and school-based settings. We therefore encourage the creation of supplemental materials for teachers, parents, and caregivers to use in these settings. We also encourage the development of both local and virtual user communities to share information, model effective practices, and promote dissemination.

Throughout this process, conducting research is essential in at least two ways: First, when formative research is conducted in coordination with the production teams, it can help to ensure that learners are responding appropriately to design elements such as user interfaces, visual cues, programmed feedback, and more. Second, research can be used to determine the effectiveness of the media products in helping young children learn or improve their school readiness. Because of the importance of research to the success of projects, Ready-to-Learn encourages applicants to enlist independent researchers to conduct one or more rigorous effectiveness studies that will meet the What Works Clearinghouse Evidence Standards (as defined in this notice). Such studies should examine the effectiveness of the proposed combination of television and other interactive media to improve science or literacy learning outcomes and to improve school readiness, when used by children in the proposed home or informal learning. Studies should also compare the learning and school readiness outcomes of children using products supported by Ready-to-Learn to the outcomes of children using other similar educational media or non-media-based learning materials.

Statutory Requirements:

As set forth in section 2431 of the ESEA, to be eligible to receive a cooperative agreement under Ready-to-Learn, an applicant must propose to:

(1) Develop, produce, and distribute educational and instructional video programming for preschool and elementary school children and their parents in order to facilitate student academic achievement;

(2) Facilitate the development, directly or through contracts with producers of children and family educational television programming, of educational programming for preschool and elementary school children, and the accompanying support materials and services that promote the effective use of such programming;

(3) Facilitate the development of programming and digital content containing Ready-to-Learn-based children's programming and resources for parents and caregivers that is specially designed for nationwide distribution over public television stations' digital broadcasting channels and the Internet;

(4) Contract with entities (such as public telecommunications entities) so that programs developed under this program are disseminated and distributed to the widest possible audience appropriate to be served by the programming, and through the use of the most appropriate distribution technologies; and

(5) Develop and disseminate education and training materials, including interactive programs and programs adaptable to distance learning technologies, that are designed—

(i) To promote school readiness; and

(ii) To promote the effective use of materials developed under paragraphs (2) and (3) among parents, teachers, Head Start providers, Even Start providers, providers of family literacy services, child care providers, early childhood development personnel, elementary school teachers, public libraries, and after-school program personnel caring for preschool and elementary school children.

Note: As set forth in section 2431(d) of the ESEA, a recipient of a Ready-to-Learn Television cooperative agreement is authorized to use up to five percent of the amount received for the normal and customary expenses of administering the grant.

Priorities: Under this competition, we are particularly interested in applications that address one or both of the following priorities.

Invitational Priorities: For FY 2015 and any subsequent year in which we make awards from the list of unfunded applicants from this competition, these priorities are invitational priorities. Under 34 CFR 75.105(c)(1) we do not give an application that meets these invitational priorities a competitive or absolute preference over other applications.

These priorities are:

Invitational Priority 1.

The Secretary invites applications from eligible public telecommunications entities that have a demonstrated track record in high-quality educational television production for preschool or elementary school-aged children and demonstrated success in improving reading, math, or science skills for children ages two through eight. These entities are invited to collaborate, as needed, with early learning educators; professional media producers; national broadcasters, streaming companies, or other mass media distributors; learning game companies; formative researchers; and other relevant organizations to produce and nationally distribute high-quality, age-appropriate educational television and digital media content that focuses on science (including scientific thinking and skill development) or literacy. The media should target children ages two through eight (or subsets), particularly those from low-income families, for use in the home or in informal learning settings for the purposes of improving learning outcomes or school readiness. Applicants are encouraged to use both television and a variety of accessible digital media to explore new combinations of narrative storytelling and interactive learning, and whenever possible, to make these media available to consumers at no cost.

Invitational Priority 2.

The Secretary invites applications from eligible public telecommunications entities that have a demonstrated track record in high-quality educational television production for preschool or elementary school aged children and demonstrated success in improving reading, math, or science skills for children ages two through eight. These entities are invited to create and nationally distribute new combinations of educational television and accessible interactive media for young children, ages two through eight (or subsets), particularly those from low-income families, that use analytics and embedded assessments, consistent with applicable privacy requirements, in order to (a) create personalized learning experiences that adapt as users progressively demonstrate competency or (b) provide useful and meaningful learning data to parents, caregivers, or educators.

Note: The media produced using Ready-to-Learn funds must comply with 16 CFR 312, the Children's Online Privacy Protection Rule, which protects children under the age of 13 from unfair or deceptive use of personal information. This rule can be found at: www.ecfr.gov/cgi-bin/text-idx?SID=4939e77c77a1a1a08c1cbf905fc4b409&node=16%3A1.0.1.3.36&rgn=div5.

Definitions: The following definitions apply to this competition. The definitions of “logic model,” “strong theory,” and “What Works Clearinghouse Evidence Standards” are from 34 CFR 77.1(c). The definition of “public telecommunications entity” is from 20 U.S.C. 7801(35), which references 47 U.S.C. 397.

Logic model (also referred to as theory of action) means a well-specified conceptual framework that identifies key components of the proposed process, product, strategy, or practice (i.e., the active “ingredients” that are hypothesized to be critical to achieving the relevant outcomes) and describes the relationships among the key components and outcomes, theoretically and operationally.

Note: In developing logic models, applicants may want to use resources such as the Pacific Education Laboratory's Education Logic Model Application (www.relpacific.mcrel.org/PERR.html or http://files.eric.ed.gov/fulltext/ED544779.pdf) to help design their logic models.

Public telecommunications entity means any enterprise which (a) is a public broadcast station or a noncommercial telecommunications entity; and (b) disseminates public telecommunications services to the public.

Strong theory means a rationale for the proposed process, product, strategy, or practice that includes a logic model.

What Works Clearinghouse Evidence Standards means the standards set forth in the What Works Clearinghouse Procedures and Standards Handbook (Version 3.0, March 2014), which can be found at the following link: http://ies.ed.gov/ncee/wwc/DocumentSum.aspx?sid=19.

Program Authority: 20 U.S.C. 6775.

Applicable Regulations: (a) The Education Department General Administrative Regulations (EDGAR) in 34 CFR parts 75, 77, 79, 81, 82, 84, 86, 97, 98, and 99. (b) The OMB Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474.

Note: The regulations in 34 CFR part 79 apply to all applicants except federally recognized Indian tribes.

Note: The regulations in 34 CFR part 86 apply to institutions of higher education only.

II. Award Information

Type of Award: Cooperative agreements.

Estimated Available Funds: $25,621,000 for FY 2015.

Contingent upon the availability of funds and the quality of applications, we may make additional awards in FY 2016 from the list of unfunded applicants from this competition.

Estimated Range of Awards: $4,000,000-$12,000,000 for the first year of the project. Funding for the second, third, fourth, and fifth years is subject to availability of funds and the approval of continuation awards (see 34 CFR 75.253).

Estimated Average Size of Awards: $8,000,000 for the first year of the project; $40,000,000 over five years.

Estimated Number of Awards: 3.

Note: The Department is not bound by any estimates in this notice.

Project Period: Up to 60 months.

III. Eligibility Information

1. Eligible Applicants: To receive a cooperative agreement under this competition, an entity must be a public telecommunications entity (as defined in this notice) that is able to demonstrate:

(A) A capacity to develop and nationally distribute educational and instructional television programming of high quality that is accessible by a large majority of disadvantaged preschool and elementary school children;

(B) A capacity to contract with the producers of children's television programming for the purpose of developing educational television programming of high quality;

(C) A capacity, consistent with the entity's mission and nonprofit nature, to negotiate such contracts in a manner that returns to the entity an appropriate share of any ancillary income from sales of any program-related products; and

(D) A capacity to localize programming and materials to meet specific State and local needs and to provide educational outreach at the local level.

Note: If more than one public telecommunications entity wishes to form a consortium and jointly submit a single application, they must follow the procedures for group applications described in 34 CFR 75.127 through 75.129 of EDGAR.

2. Cost Sharing or Matching: This competition does not require cost sharing or matching.

IV. Application and Submission Information

1. Address to Request Application Package: You can obtain an application package via the Internet, from the Education Publications Center (ED Pubs), or from the program office.

To obtain a copy via the Internet, use the following address: www.ed.gov/fund/grant/apply/grantapps/index.html.

To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this program as follows: CFDA number 84.295A.

To obtain a copy from the program office, contact: Brian Lekander, U.S. Department of Education, 400 Maryland Avenue SW., Room 4C133, Washington, DC 20202-9830. Telephone: (202) 205-5633 or by email: readytolearn@ed.gov. If you use a TDD or a TTY, call the Federal Relay Service (FRS), toll free, at 1-800-877-8339.

Individuals with disabilities can obtain a copy of the application package in an accessible format (e.g., braille, large print, audiotape, or compact disc) by contacting the program contact person listed in this section.

2. Content and Form of Application Submission: Requirements concerning the content of an application, together with the forms you must submit, are in the application package for this program.

Notice of Intent to Apply: April 9, 2015.

We will be able to develop a more efficient process for reviewing grant applications if we have a better understanding of the number of public telecommunications entities that intend to apply for funding under this program. Therefore, we strongly encourage each potential applicant to notify the Department by sending a short email message indicating the applicant's intent to submit an application for funding. The email should indicate the invitational priority or priorities to be addressed and the subject matter focus (e.g., science or literacy) of the application. The email should be addressed to readytolearn@ed.gov. Applicants may also fill out a brief letter of intent to apply form on the Ready-to-Learn Web site. Applicants that do not provide this email notification or fill out the form may still apply for funding.

Page Limit: The application narrative is where you, the applicant, address the selection criteria that reviewers use to evaluation your application. Applicants are strongly encouraged to limit the application narrative (Part III) to the equivalent of no more than 50 pages. Applicants are also strongly encouraged not to include lengthy appendices that contain information that they were unable to include within the page limits for the narrative. Applicants should use the following standards:

• A “page” is 8.5″ x 11″, on one side only, with 1″ margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial.

The page limit for the application does not apply to Part I, the cover sheet; Part II, the budget section, including the narrative budget justification; Part IV, the assurances and certifications; or the one-page abstract, the resumes, the bibliography, or the letters of support of the application. However, the page limit does apply to all of the application narrative section of the application.

3. Submission Dates and Times:

Applications Available: March 25, 2015.

Deadline for Notice of Intent to Submit an Application: April 9, 2015.

Date of Pre-Application Webinar: The Department intends to hold a Webinar designed to provide technical assistance to those interested in applying for a Ready-to-Learn grant. Detailed information regarding this meeting will be provided on the Ready-to-Learn Web site at http://www2.ed.gov/programs/rtltv/index.html.

Deadline for Transmittal of Applications: May 26, 2015.

Applications for grants under this competition must be submitted electronically using the Grants.gov Apply site (Grants.gov). For information (including dates and times) about how to submit your application electronically, or in paper format by mail or hand delivery if you qualify for an exception to the electronic submission requirement, please refer to section IV. Application and Submission Information. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: May 26, 2015.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this program must be submitted electronically unless you qualify for an exception to this requirement in accordance with the instructions in this section.

a. Electronic Submission of Applications.

Applications for grants under the Ready-to-Learn Television Program, CFDA Number 84.295A, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Ready-to-Learn program at www.Grants.gov. You must search for the downloadable application package for this competition by the CFDA number. Do not include the CFDA number's alpha suffix in your search (e.g., search for 84.295, not 84.295A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at http://www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: Brian Lekander, U.S. Department of Education, 400 Maryland Avenue SW., Room 4C133, Washington, DC 20202. FAX: (202) 205-5631.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.295A), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Number 84.295A), 550 12th Street, SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

1. Selection Criteria: The selection criteria for the Ready-to-Learn competition are from the EDGAR general selection criteria in 34 CFR 75.210 and are listed below.

The points assigned to each criterion are indicated in the parentheses next to the criterion. An applicant may earn up to a total of 100 points based on its responses to the selection criteria.

Note: An applicant must provide in the project narrative section of its application information about how its proposed project addresses the selection criteria. In responding to the selection criteria, applicants should keep in mind that peer reviewers may consider only the information provided in the written application when scoring and commenting on the application.

A. Significance (10 points)

The Secretary considers the significance of the proposed project. In determining the significance of the proposed project, the Secretary considers the following factors:

(i) The extent to which the proposed project will provide services or otherwise address the needs of students at risk of educational failure.

(ii) The extent to which the proposed project involves the development or demonstration of promising new strategies that build on, or are alternatives to, existing strategies.

B. Quality of the Project Design (25 points)

The Secretary considers the quality of the design of the proposed project. In determining the quality of the design of the proposed project, the Secretary considers the following factors:

(i) The extent to which the proposed project represents an exceptional approach for meeting statutory purposes and requirements.

(ii) The extent to which the proposed project is supported by strong theory (as defined in this notice).

(iii) The extent to which the goals, objectives, and outcomes to be achieved by the proposed project are clearly specified and measurable.

(iv) The extent to which the proposed development efforts include adequate quality controls and, as appropriate, repeated testing of products.

Note: In responding to the Quality of the Project Design selection criterion, an applicant should include a detailed description of its proposal to develop media and conduct outreach, as described in section 2431 of the ESEA.

C. Strategy to Scale (25 points)

The Secretary considers the applicant's strategy to scale the proposed project. In determining the applicant's capacity to scale the proposed project, the Secretary considers the following factors:

(i) The applicant's capacity (e.g., in terms of qualified personnel, financial resources, or management capacity) to further develop and bring to scale the proposed process, product, strategy, or practice, or to work with others to ensure that the proposed process, product, strategy, or practice can be further developed and brought to scale, based on the findings of the proposed project.

(ii) The likely utility of the products (such as information, materials, processes, or techniques) that will result from the proposed project, including the potential for their being used effectively in a variety of other settings.

D. Quality of the Management Plan (20 Points)

The Secretary considers the quality of the management plan for the proposed project. In determining the quality of the management plan for the proposed project, the Secretary considers the following factors:

(i) The adequacy of the management plan to achieve the objectives of the proposed project on time and within budget, including clearly defined responsibilities, timelines, and milestones for accomplishing project tasks.

(ii) The qualifications, including relevant training and experience, of key project personnel.

(iii) The relevance and demonstrated commitment of each partner in the proposed project to the implementation and success of the project.

E. Quality of the Project Evaluation (20 points)

The Secretary considers the quality of the evaluation to be conducted of the proposed project. In determining the quality of the evaluation, the Secretary considers the following factors:

(i) The extent to which the methods of evaluation include the use of objective performance measures that are clearly related to the intended outcomes of the project and will produce quantitative and qualitative data to the extent possible.

(ii) The extent to which the methods of evaluation will provide timely guidance for quality assurance.

(iii) The extent to which the methods of evaluation will, if well-implemented, produce evidence about the project's effectiveness that would meet the What Works Clearinghouse Evidence Standards (as defined in this notice) with reservations.

Note: We encourage applicants to review the following technical assistance resources on evaluation: (1) WWC Procedures and Standards Handbook: http://ies.ed.gov/ncee/wwc/references/idocviewer/doc.aspx?docid=19&tocid=1; and (2) IES/NCEE Technical Methods papers: http://ies.ed.gov/ncee/tech_methods/. In addition, we invite applicants to view two optional Webinar recordings that was hosted by the Institute of Education Sciences. The first Webinar discussed strategies for designing and executing well-designed quasi-experimental design studies. Applicants interested in viewing this Webinar may find more information at the following Web site: http://ies.ed.gov/ncee/wwc/news.aspx?sid=23. We also encourage applicants to review a second Webinar recorded by the IES that focused on more rigorous evaluation designs. This Webinar discusses strategies for designing and executing studies that meet WWC standards without reservations. Applicants interested in reviewing this Webinar may find more information at the following Web site: http://ies.ed.gov/ncee/wwc/News.aspx?sid=18.

2. Review and Selection Process: Before making awards, we will screen applications submitted in accordance with the requirements in this notice to determine whether applications have met eligibility and other requirements. This screening process may occur at various stages of the process; applicants that are determined to be ineligible will not receive a grant, regardless of peer reviewer scores or comments.

We will use independent peer reviewers with varied backgrounds and professions, such as experts in science or literacy education, early learning, media production and distribution, educational game development, educational technology, community-based outreach, or educational research and evaluation. All reviewers will be thoroughly screened for conflicts of interest to ensure a fair and competitive review process. Peer reviewers will read, prepare a written evaluation, and score the assigned applications, using the selection criteria provided in this notice.

We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

Finally, in making a competitive grant award, the Secretary also requires various assurances including those applicable to Federal civil rights laws that prohibit discrimination in programs or activities receiving Federal financial assistance from the Department of Education (34 CFR 100.4, 104.5, 106.4, 108.8, and 110.23).

3. Special Conditions: Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: The Department has established four performance measures for the Ready-to-Learn program. These measures constitute the Department's indicators of success for the program. Consequently, we advise an applicant for a grant under this program to give careful consideration to these measures in conceptualizing the approach and evaluation for its proposed project. Each grantee will be required to provide, in its annual performance reports and in its final report, data about its progress in meeting these measures.

The first three are Government Performance and Results Act of 1993 (GPRA) performance measures for the Ready-to-Learn program:

• The percentage of summative experimental or quasi-experimental research studies that demonstrate positive and statistically significant gains in science or literacy skills when Ready-to-Learn transmedia properties are compared to similar non-Ready-to-Learn-funded digital properties or to other more traditional educational materials.

• The number of children who annually use Ready-to-Learn produced educational media products, disaggregated by individual product, as determined by appropriate industry standard metrics or, when available, by tracking tools.

• The percentage of educational “transmedia products,” along with necessary supporting materials, that are deemed to be of high quality in promoting learning of science or literacy by an independent panel of expert reviewers.

Note: The Department will convene expert panels annually to review grantee-produced products. Applicants should include in their budgets funds for two individuals each year to spend two days in Washington, DC to attend these panel meetings and to demonstrate the identified products to reviewers.

The fourth performance measure for Ready-to-Learn is a program efficiency measure:

• Dollars leveraged from non-Federal sources per Federal dollar dedicated to core non-outreach and non-research program activities.

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Brian Lekander, U.S. Department of Education, 400 Maryland Avenue SW., Room 4C133, Washington, DC 20202-5930. Telephone: (202) 205-5633 or by email: readytolearn@ed.gov.

If you use a TDD or a TTY, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 20, 2015.
Nadya Chinoy Dabby,
Assistant Deputy Secretary for Innovation and Improvement.

[FR Doc. 2015-06791 Filed 3-23-15; 8:45 am]

BILLING CODE 4000-01-P